DEPARTMENT OF TRANSPORTATION

Federal Aviation Administration

[Docket No. FAA-2000-7587]

Advisory Circular 36-4C, Noise Standards: Aircraft Type and Airworthiness Certification

AGENCY: Federal Aviation Administration, DOT.

ACTION: Notice of availability.

SUMMARY: The Federal Aviation Administration (FAA) is publishing a notice of availability of the draft advisory circular on “Noise Standards: Aircraft Type and Airworthiness Certification.” This notice is intended to assist interested persons who are reviewing a notice of proposed rulemaking on noise certification standards for subsonic jet airplanes and subsonic transport category large airplanes that is currently out for public comment. It also solicits comments on this draft circular.

DATES: Comments must be received on or before October 10, 2000.

ADDRESSES: Copy of the draft AC 36-4C may be obtained on the FAA's web site (http://www.aee.faa.gov/ac-36-4c), or by mail by contacting the Office of Environment and Energy at the address listed in the FOR FURTHER INFORMATION CONTACT section.

FOR FURTHER INFORMATION CONTACT: Mr. Thomas L. Connor, Noise Division (AEE-100), Office of Environment and Energy, FAA, 800 Independence Avenue, SW., Washington, DC 20591; telephone (202) 267-8933.

SUPPLEMENTARY INFORMATION: The draft Advisory Circular (AC) 36-4C, “Noise Standards: Aircraft Type and Airworthiness Certification” contains information concerning the standards and requirements for aircraft noise certification and presents explanatory information, as necessary, to identify acceptable means of compliance.

The draft AC contains a section-by-section review of the 14 CFR part 36. The draft AC presents acceptable noise certification procedures for normal, utility, acrobatic, and commuter category small airplanes, transport category airplanes and normal and transport category rotorcraft.

The FAA recently proposed changes to the noise certification standards for subsonic jet airplanes and subsonic transport category large airplanes that were published in the Federal Register in a notice of proposed rulemaking (65 FR 42796, July 11, 2000). The comment period closes on October 10, 2000. These proposed changes are based on the joint effort of the FAA, the European Joint Aviation Authorities, and Aviation Rulemaking Advisory Committee, to harmonize the U.S. noise certification regulations and the European Joint Aviation Requirements for subsonic jet airplanes and subsonic transport category large airplanes. The draft AC 36-4C, “Noise Standards: Aircraft Type and Airworthiness Certification” is referred to in the above NPRM and, therefore, the draft AC is being made available by the FAA to review in conjunction with this NPRM. Comments are invited on the draft AC and should be submitted along with comments on the companion NPRM through the NPRM docket (Docket No. FAA-2000-7587).

The FAA intends to issue the final AC 36-4C concurrently with the final rule on the noise certification standards for subsonic jet airplanes and subsonic transport category large airplanes.

Issued in Washington, DC, on August 2, 2000.
James D. Erikson,
Director of Environment and Energy.

[FR Doc. 00-20130 Filed 8-8-00; 8:45 am]

BILLING CODE 4910-13-M